DEPARTMENT OF JUSTICE

Antitrust Division

Notice Pursuant to The National Cooperative Research and Production Act of 1993—Industrial Macromolecular Crystallography Association (“IMCA”)

Notice is hereby given that on July 18, 2000, pursuant to Section 6(a) of the National Cooperative Research and Production Act of 1993, 15 U.S.C. § 4301 et seq. (“the Act”), Industrial Macromolecular Crystallography Association (IMCA) filed written notifications simultaneously with the Attorney General and the Federal Trade Commission disclosing changes in its membership status. The notifications were filed for the purpose of extending the Act's provisions limiting the recovery of antitrust plaintiffs to actual damages under specified circumstances. Specifically, Bayer Corporation has withdrawn as a member and 3-Dimensional Pharmaceuticals, Inc., a corporation of Delaware with its principal place of business in Exton, PA, has become a member. In addition, three members have changed their legal names following mergers: The Upjohn Company has changed its name to Pharmacia and Upjohn Company, Peapack, NJ; G.D. Searle & Co. has changed its name to Pharmacia Corporation, Peapack, NJ; and Parke-Davis Pharmaceutical Research has changed its name to Pfizer Global Research and Development, Ann Arbor Laboratories. Pfizer, Inc., Ann Harbor, MI.

No other changes have been made in either the membership or planned activitity of the group research project. Membership in this group research remains open, and IMCA intends to file additional written notification disclosing all changes in membership.

On October 23, 1990, IMCA filed its original notification pursuant to Section 6(a) of the Act. The Department of Justice published a notice in the Federal Register pursuant to Section 6(b) of the Act on December 3, 1990 (55 FR 49953).

The last notification was filed with the Department on April 8, 1996. A notice was published in the Federal Register pursuant to Section 6(b) of the Act on April 25, 1996 (61 FR 18410).

Constance K. Robinson,
Director of Operations, Antitrust Division.

[FR Doc. 01-13034 Filed 5-22-01; 8:45 am]

BILLING CODE 4410-11-M